NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. The full submission may be found at: http://www.reginfo.gov/public/do/PRAMain. This is the second notice for public comment; the first was published in the Federal Register at 73 FR 24615, and no comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: 2008 Survey of Graduate Students and Postdoctorates in Science and Engineering.

OMB Approval Number: 3145-0062.

Type of Request: Intent to seek approval to extend an information collection for three years.

1. Abstract

The Survey of Graduate Students and Postdoctorates in Science and Engineering (GSS) has been conducted since 1966. The GSS is a census of all eligible academic institutions and all departments in science and engineering and health (SEH) programs in the United States. The GSS is the only national survey that collects information on the characteristics of graduate enrollment for specific science, engineering, and health disciplines at the department level. It collects information on race/ethnicity, citizenship, gender, sources of support, mechanisms of support, and enrollment status for graduate students; and gender, citizenship and sources of support for postdoctorates. It also collects counts by gender of other nonfaculty research staff with doctorates.

The National Science Foundation Act of 1950, as subsequently amended, includes a statutory charge to “* * * provide a central clearinghouse for the collection, interpretation, and analysis of data on scientific and engineering resources, and to provide a source of information for policy formulation by other agencies of the Federal Government.” The GSS is designed to comply with these mandates by providing information on the characteristics of academic graduate enrollment and postdoctoral components in science, engineering and health fields. The Foundation uses this information to prepare congressionally mandated reports such as Women, Minorities and Persons with Disabilities in Science and Engineering and Science and Engineering Indicators.

Survey results are made available in a variety of formats. A four-page InfoBrief and selected summary tables are published. All tables and reports are made available in various electronic formats on the Web (http://www.nsf/gov/statistics/). The results are also in the Web-based Computer-Aided Science Policy Analysis and Research (WebCASPAR) database system. The URL for WebCASPAR is http://caspar.nsf.gov/webcaspar. A public release file is also made available on the World Wide Web.

RTI International (RTI) will conduct the study for NSF. Data collection will begin in October 2008 primarily by Web survey (with paper worksheets available upon request). All information will be used for statistical purposes only. Participation in the survey is voluntary.

2. Expected Respondents

In 2008, the number of departments is expected to grow by 5 percent resulting in a total number of 13,253 departments. In addition, the 2008 GSS will be conducting pilot studies with 80 potentially eligible institutions and with 40 institutions where undercoverage (not all eligible departments are being listed) may be occurring. Finally, in 2008-2010 the GSS will be including the Federally Funded Research and Development Centers (FFRDCs) as part of the GSS in order to gather information about the number and characteristics of postdoctoral appointments in these centers.

3. Burden on the Public

The amount of time to complete the GSS varies and depends to a large degree on the extent to which the school's records are centrally stored and computerized. On average, it takes 2.5 hours to complete the GSS. Based on estimates provided by the respondents to the 2007 GSS, the total estimated burden for the 2008 GSS will be 36,721 hours. This estimate includes the 33,133 annual burden hours for the 2008 GSS; 2,800 annual burden hours for the pilot study of the newly eligible institutions; 600 burden hours for the undercoverage pilot study; and 188 burden hours for FFRDC study. The total estimated burden for the three years of this clearance (2008-2010) will be 127,423 hours, including 360 hours for field testing of data collection instruments prior to implementation.

Dated: July 23, 2008.
Suzanne H. Plimpton,
Reports Clearance Officer, National Science Foundation.

[FR Doc. E8-17182 Filed 7-25-08; 8:45 am]

BILLING CODE 7555-01-P